DEPARTMENT OF THE TREASURY

Agency Information Collection Activities; Submission for OMB Review; Comment Request; Multiple Tax and Trade Bureau Information Collection Requests

AGENCY: Departmental Offices, U.S. Department of the Treasury.

ACTION: Notice.

SUMMARY: The Department of the Treasury will submit the following information collection request(s) to the Office of Management and Budget (OMB) for review and clearance in accordance with the Paperwork Reduction Act of 1995, on or after the date of publication of this notice. The public is invited to submit comments on the collection(s) listed below.

DATES: Comments should be received on or before June 26, 2017 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained by emailing PRA@treasury.gov, calling (202) 622-0489, or viewing the entire information collection request at www.reginfo.gov.

SUPPLEMENTARY INFORMATION:

Alcohol and Tobacco Tax and Trade Bureau (TTB)

1. Title: Tax Information Authorization.

OMB Control Number: 1513-0001.

Type of Review: Extension without change of a currently approved collection.

Abstract: In general, the Internal Revenue Code at 26 U.S.C. 6103 protects the privacy of taxpayer information by, among other things, prohibiting the disclosure of tax returns and taxpayer information to unauthorized persons, but under 26 U.S.C. 6103(c), a taxpayer may authorize a representative to receive otherwise confidential tax information. TTB requires a taxpayer to file TTB F 5000.19 when the taxpayer wishes to authorize a representative who does not have a power of attorney to obtain otherwise confidential information regarding the taxpayer. TTB uses the information provided on this form to properly identify the taxpayer's representative and the scope of his/her authority to obtain confidential information.

Form: TTB Form 5000.19.

Affected Public: Businesses or other for-profits.

Estimated Total Annual Burden Hours: 50.

2. Title: Referral of Information.

OMB Control Number: 1513-0003.

Type of Review: Extension without change of a currently approved collection.

Abstract: During the course of their duties, TTB personnel sometimes discover apparent violations of statutes and regulations under the jurisdiction of State and local government agencies. Using form TTB F 5000.21, TTB personnel refer information regarding such violations to the appropriate external agencies, if such disclosures are authorized under 26 U.S.C. 6103 or other Federal laws. The referral form includes a section for the external agency to respond to TTB regarding their action on the referral. This form provides a consistent means of conveying the relevant information to external agencies, and it facilitates information-sharing between TTB and external agencies to support enforcement efforts. The response that TTB requests from these State and local government agencies also provides information as to the utility of the referrals and potential enforcement actions that these external agencies take against the same entities that TTB regulates.

Form: TTB Form 5000.21.

Affected Public: State, Local and Tribal Governments.

Estimated Total Annual Burden Hours: 100.

3. Title: Application for an Alcohol Fuel Producer Permit Under 26 U.S.C. 5181

OMB Control Number: 1513-0051.

Type of Review: Extension without change of a currently approved collection.

Abstract: Under the authority of the Internal Revenue Code at 26 U.S.C. 5181(a)(1), persons wishing to establish a distilled spirits plant for the sole purpose of producing and receiving distilled spirits for fuel use must provide an application and bond as the Secretary of the Treasury may prescribe by regulation. Under this authority, TTB has issued regulations concerning the establishment of such alcohol fuel plants. These regulations require, among other things, that a person wishing to establish such a plant must submit an application for an alcohol fuel producer permit using form TTB F 5110.74. This application form and its required supporting documentation describe, among other things, the person(s) applying for the permit, the proposed plant's location, stills, types of materials to be distilled, and size category of the operation (small, medium, or large) based on the annual amount of alcohol fuel to be produced or received. Existing permit holders also use the application form to make certain amendments to their permit information. This information is necessary to protect the revenue.

Form: TTB Form 5110.74.

Affected Public: Businesses or other for-profits.

Estimated Total Annual Burden Hours: 377.

Authority: 44 U.S.C. 3501 et seq.

Dated: May 23, 2017.
Spencer W. Clark,
Treasury PRA Clearance Officer.

[FR Doc. 2017-10945 Filed 5-25-17; 8:45 am]

BILLING CODE 4810-31-P